DEPARTMENT OF AGRICULTURE

Rural Telephone Bank

Staff Briefing for the Board of Directors

ACTION: Board of Directors Meeting.

TIME AND DATE: 2:00 p.m., Thursday, May 11, 2000.

PLACE: Room 5030, South Building, Department of Agriculture, 1400 Independence Avenue, SW, Washington, DC.

STATUS: Open.

MATTERS TO BE DISCUSSED: 1. Current telecommunications industry issues.

2. Status of PBO planning and recommendations to accelerate privatization of the Bank.

3. President's proposed budget for FY 2001.

4. Office of the Inspector General's audit report on FY 1999 financial statements.

5. FY 1999 annual report of the Board.

6. Administrative issues.

TIME AND DATE: 9:00 a.m., Friday, May 12, 2000.

PLACE: Room 104-A, The Williamsburg Room, Department of Agriculture, 12th & Jefferson Drive, SW, Washington, DC.

STATUS: Open.

MATTERS TO BE CONSIDERED: The following matters have been placed on the agenda for the Board of Directors meeting:

1. Call to order.

2. Action on Minutes of the February 11, 2000, board meeting.

3. Report on loans approved in the second quarter of FY 2000.

4. Report on second quarter financial activity for FY 2000.

5. Privatization Committee report.

6. Action on the Bank's annual report for FY 1999.

7. Adjournment.

CONTACT PERSON FOR MORE INFORMATION: Roberta D. Purcell, Assistant Governor, Rural Telephone Bank, (202) 720-9554.

Dated: April 28, 2000.
Christopher McLean,
Acting Governor, Rural Telephone Bank.

[FR Doc. 00-11279 Filed 5-2-00; 2:48 pm]

BILLING CODE 3410-15-P